DEPARTMENT OF TREASURY

Internal Revenue Service

Office of the General Counsel; Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Laura Hildner, Deputy General Counsel

2. Sunita B. Lough, Commissioner (Tax Exempt/Government Entities), IRS

3. Mary Beth Murphy, Deputy Commissioner (Small Business/Self Employed), IRS

Alternate—Donna C. Hansberry, Deputy Commissioner (Tax Exempt/Government Entities), IRS

This publication is required by 5 U.S.C. 4314(c)(4).

Dated: September 28, 2015.
William J. Wilkins,
Chief Counsel, Internal Revenue Service.

[FR Doc. 2015-25335 Filed 10-6-15; 8:45 am]

BILLING CODE 4830-01-P